FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 29, 2023.

A. Federal Reserve Bank of Kansas City (Jeffrey Imgarten, Assistant Vice President) One Memorial Drive, Kansas City, Missouri. Comments can also be sent electronically to KCApplicationComments@kc.frb.org.

1. Michael Taylor, Sundance, Wyoming; to join the Richard Durfee Family Control Group, a group acting in concert, to retain voting shares of Sundance Bankshares, Inc., and thereby indirectly retain voting shares of Sundance State Bank, both of Sundance, Wyoming.

2. Charles and Loretta Durfee Revocable Trust, Loretta Durfee and Charles Durfee, as co-trustees, all of Sundance, Wyoming; Gerald and Peggy Hyatt Living Trust, Gerald Hyatt and Peggy Hyatt, as co-trustees, all of Bar Nunn, Wyoming; Moline Revocable Trust, Brett R. Moline and Judy Moline, as co-trustees, all of Laramie, Wyoming; and Tranas Family Revocable Trust, Donald Tranas and Shirley Tranas, as co-trustees, all of Greybull, Wyoming; to join the James R. Durfee Family Control Group, a group acting in concert, to retain voting shares of Sundance Bankshares, Inc., and thereby indirectly retain voting shares of Sundance State Bank, both of Sundance, Wyoming.

B. Federal Reserve Bank of St. Louis (Holly A. Rieser, Senior Manager) P.O. Box 442, St. Louis, Missouri 63166-2034. Comments can also be sent electronically to Comments.applications@stls.frb.org.

1. Lambert Lynn Marshall, Little Rock, Arkansas; to retain voting shares of MNB Bancshares, Inc., and thereby indirectly retain voting shares of The Malvern National Bank, both of Malvern, Arkansas.

C. Federal Reserve Bank of Chicago (Colette A. Fried, Assistant Vice President) 230 South LaSalle Street, Chicago, IL 60604. Comments can also be sent electronically to Comments.applications@chi.frb.org.

1. Dairyland Bank Holding Corporation, and William Bosshard, Andrew Bosshard, Joseph Bosshard, Makenzie Bosshard, Carlista Bosshard, and John Bosshard as Tenants in Common, all of La Crosse, Wisconsin; to join the Bosshard Family Control Group, a group acting in concert, to acquire voting shares of Bosshard Financial Group, Inc., La Crosse, Wisconsin, and thereby indirectly acquire voting shares of One Community Bank, Oregon, Wisconsin, and Farmers State Bank-Hillsboro, Hillsboro, Wisconsin.

D. Federal Reserve Bank of San Francisco (Joseph Cuenco, Assistant Vice President) 101 Market Street, San Francisco, California. 94105-1579. Comments can also be sent electronically to: sf.fisc.comments.applications@sf.frb.org.

1. BlackRock, Inc., New York, New York, on behalf of itself, its subsidiaries and affiliates, and the accounts, portfolios, registered and unregistered investment companies, collective investment vehicles, and other pooled investment vehicles that are sponsored, managed, or advised by BlackRock; to acquire additional voting shares of Banner Corporation, and thereby indirectly acquire additional voting shares of Banner Bank, both of Walla Walla, Washington.

Board of Governors of the Federal Reserve System.
Michele Taylor Fennell,
Deputy Associate Secretary of the Board.

[FR Doc. 2023-12745 Filed 6-13-23; 8:45 am]

BILLING CODE P